DEPARTMENT OF AGRICULTURE

Commodity Credit Corporation

Livestock Indemnity Program for Livestock Losses Due to Southern California Fires

AGENCY: Commodity Credit Corporation, USDA.

ACTION: Notice of funds availability.

SUMMARY: The Commodity Credit Corporation (CCC) is issuing this notice to inform interested parties of the availability of $500,000 to provide assistance to producers who suffered livestock losses due to wild fires in Southern California. Assistance will be provided in the same manner as the assistance provided under terms applicable to a previous Livestock Indemnity Program.

DATES: The Farm Service Agency (FSA) will begin accepting applications on April 15, 2004. The application deadline is June 14, 2004, or such other date as determined by FSA's Deputy Administrator for Farm Programs.

FOR FURTHER INFORMATION CONTACT: Eloise Taylor, Chief, Compliance Branch, Production, Emergencies and Compliance Division, FSA, 1400 Independence Ave., SW., Washington, DC 20250-0517, (202) 720-9882, or e-mail at: Eloise_Taylor@wdc.usda.gov or http://www.regulations.gov. Persons with disabilities who require alternative means for communication of regulatory information (Braille, large print, audiotape, etc.) should contact USDA's TARGET Center at (202) 720-2600 (voice and TDD).

SUPPLEMENTARY INFORMATION:

Paperwork Reduction Act

The collection of information from the public to implement this program has been approved by the Office of Management and Budget under Control Number 0560-0179.

Background

This notice provides California Livestock Indemnity Program terms and conditions, and informs affected parties that they may be eligible for benefits. Section 102(g) of Division H of the Consolidated Appropriations Act, 2004 (Public Law 108-199, January 23, 2004), provided $500,000 of funds of the CCC for a livestock indemnity program in Southern California “under the heading ‘Commodity Credit Corporation’ ” in the 1999 emergency Supplemental Appropriations Act, Public Law 106-31. That provision is accompanied in Section 102 with other provisions addressing recent wildfire losses. In accord with the understood intent of the livestock provision, the CCC is making available by this notice $500,000 for those losses, namely in Southern California, to livestock owners in the counties of Ventura, San Bernardino, Santa Barbara, San Diego, Riverside, and Los Angeles who suffered eligible livestock losses from wildfires in the fall of 2003. No claims will be paid except upon the filing of a proper application during the application period as announced in this notice. All claims are subject to the availability of funds. Owners will be compensated by livestock category as established by CCC. The owner's loss must be the result of the wild fires and in excess of normal losses, as established by CCC, for the owner's livestock operation. The requirements as set forth below apply as do any additional terms as may be imposed in the application process by the agency.

Comments and questions concerning this notice may be directed to Eloise Taylor at the address above. However, because the nature of the relief, it has been determined that a delay in this action would be contrary to the public interest, and Congressional intent. Thus, the notice is effective immediately.

I. How To Apply

(A) Livestock owners must submit the application for benefits at the FSA service center for the area in which the livestock was lost. Except as otherwise provided in this notice, owners must meet all eligibility requirements as codified at 7 CFR part 1439, Subpart A. Further, expect as otherwise provided in this notice, the terms and conditions, requirements, and definitions of the regulations published in the Federal Register on November 1, 1999 (64 FR 58766), for the livestock indemnity program provided in Public Law 106-31 shall apply.

(B) The livestock owner shall provide any available supporting documents that will assist the FSA county committee, or is requested by the county committee, including, but not limited to:

(1) Evidence of the quantity of eligible livestock that perished in the natural disaster, such as purchase records, veterinarian receipts, bank loan papers, rendering truck certificates, Federal Emergency Management Agency and National Guard records, auction barn receipts, and any other documents available to confirm the presence of the livestock and subsequent losses; and

(2) Evidence, including any documents available, confirming that the disaster was responsible for the livestock losses.

(3) Certifications by the owner and other such documentation the county committee determines to be necessary to verify the information provided by the owner. Third-party verifications may be accepted only if the owner certifies in writing that there is no other documentation available. Third-party verification must be signed by the verifying party. Failure to provide documentation that is satisfactory to the county committee will result in the disapproval of the application.

II. Payment Limitations

(A) Funding for the program is limited to $500,000. In the event that amount is insufficient to pay all approved claims, CCC will reduce the payments for all eligible and timely submitted claims on a pro rata basis or other method deemed appropriate by CCC.

(B) The total amount of benefits that a person may receive, as determined in accordance with 7 CFR Part 1400, shall not exceed $50,000.

III. Who Is Eligible

Eligible producers for California LIP payments are livestock owners in the Southern California counties of Ventura, San Bernardino, Santa Barbara, San Diego, Riverside, and Los Angeles who suffered livestock losses from wildfires in the fall of 2003, and to livestock producers in Kern or Tulare county who suffered livestock losses from the McNally fire in 2002.

IV. Eligibility Determinations

Eligibility determinations will be made by the county committee upon receipt of all necessary data. Ineligible causes of loss are those that are not a direct result of the wild fires.

A person, as defined in 7 CFR Part 1400, who has annual gross revenue in excess of $2.5 million shall not be eligible for benefits from this program.

V. Payment Calculations

(A) LIP payments will be based on the owner's share of the lost livestock.

(B) Payments will be calculated by multiplying the national payment rate for the livestock category, as determined by CCC, by the number of qualifying animals determined in paragraph I, above.

VI. General

(A) LIP will be under the supervision of the Deputy Administrator for Farm Programs, who will have the authority to modify terms and conditions of the program in order to achieve the purposes of the program.

(B) Livestock owners shall certify the accuracy of the information provided. All information provided is subject to verification and spot checks by CCC. Failure to provide information requested by the county committee or by agency officials is cause for denial of any application.

(C) The livestock owner must agree to the final terms and conditions.

(D) For additional information, affected livestock owners should contact Eloise Taylor at the address shown above.

(E) Payments are subject to administrative offset.

VII. Appeals

Once all claims have been submitted, individual applicants will have 30 days to challenge the payment amount with the county committee.

Signed at Washington, DC, April 20, 2004.
Michael W. Yost,
Acting Executive Vice President, Commodity Credit Corporation.

[FR Doc. 04-9800 Filed 4-29-04; 8:45 am]

BILLING CODE 3410-05-P